FEDERAL COMMUNICATIONS COMMISSION

[WC Docket No. 23-1; DA 24-1006; FR ID 249027]

Rescheduled Meeting of the North American Numbering Council

AGENCY: Federal Communications Commission.

ACTION: Notice.

SUMMARY: In this document, the Commission released a public notice announcing the rescheduling of a meeting of the North American Numbering Council (NANC).

DATES: December 13, 2024. The meeting will come to order at 10 a.m. ET.

ADDRESSES: The meeting will be conducted via video conference and will be available to the public via the internet at http://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The NANC meeting previously scheduled for Thursday, December 12, 2024 at 2 p.m. ET has been cancelled. The meeting has been rescheduled for Friday, December 13, 2024 from 10 a.m. until 12 p.m. ET. The meeting will be conducted via video conference and will be open to the public via live feed from the FCC's web page at http://www.fcc.gov/live. Open captioning will be provided for these events. Other reasonable accommodations for people with disabilities are available upon request. Requests for such accommodations should be submitted via email to fcc504@fcc.gov or by calling the Consumer & Governmental Affairs Bureau at (202) 418-0530. Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in WC Docket No. 23-1. This is a summary of the Commission's document in WC Docket No. 23-1, DA 24-1006, released September 27, 2024.

Proposed Agenda: At the rescheduled December meeting, the NANC will consider and vote on reports and recommendations from the following Working Groups: (1) The Call Authentication Trust Anchor (CATA) Working Group regarding the regulatory treatment of international cellular roaming traffic; (2) The CATA Working Group regarding foreign-originated calls, the use of indirectly obtained numbers, and the use of numbers supplied on a trial basis by interconnected Voice over internet Protocol (VoIP) providers that obtain direct access to numbers; (3) the Numbering Administration Oversight Working Group regarding number use and resale, and number reclamation, by interconnected VoIP providers that obtain direct access to numbers; and (4) the Internet of Things Numbering Usage Working Group regarding the use of North American Numbering Plan numbers for the routing and addressing of Internet of Things communications. The agenda may be modified at the discretion of the NANC Chairwoman and the Designated Federal Officer. (5 U.S.C. ch. 10)

Federal Communications Commission.
Edward Krachmer,
Deputy Chief, Competition Policy Division, Wireline Competition Bureau.

[FR Doc. 2024-23042 Filed 10-4-24; 8:45 am]

BILLING CODE 6712-01-P